DEPARTMENT OF ENERGY

Federal Energy Regulatory Commission

[Docket Nos. CP98-150-000, CP98-150-002, and Docket No. CP98-151-000]

Millennium Pipeline Company, L.P.; Columbia Gas Transmission Company; Notice of Availability of the Supplemental Draft Environmental Impact Statement for the Proposed Millennium Pipeline Project

March 12, 2001.

The staff of the Federal Energy Regulatory Commission (FERC or Commission) has prepared a Supplemental Draft Environmental Impact Statement (SDEIS) on the natural gas pipeline facilities proposed by Millennium Pipeline Company, L.P. (Millennium) and Columbia Gas Transmission Company in the above-referenced dockets.

The SDEIS was prepared to satisfy the requirements of the National Environmental Policy Act. The staff concludes that if the Commission certificates the proposed Millennium Pipeline Project with all the recommended mitigation measures, the environmental impacts associated with constructing and operating the amended portions of the proposed project discussed in Part I of this SDEIS would have limited adverse environmental impact. Part II of this SDEIS provides analyses of a number of other aspects of the proposed project, and we note that additional mitigation measures would need to be included in the Commission certificate to address these aspects of the proposal. The SDEIS also evaluates alternatives to the proposal, including system alternatives. We note that other issues and environmental impacts were previously identified in our draft environmental impact statement (DEIS) issued on April 16, 1999. This SDEIS addresses only the issues where important information about the originally proposed Millennium Pipeline Project has been updated since we issued the DEIS.

Part I of the SDEIS addresses the potential environmental effects form construction and operation of the following proposed facilities:

• 22.7 miles of 24-inch-diameter pipeline in Westchester County, New York; and

• Five mainline valves.

Part II of the SDEIS addresses certain issues identified in comments we received on the DEIS, and includes issues associated with:

• The black dirt area in Orange County, New York;

• Water resources (e.g., ground and surface waters, Lake Erie, the Hudson River, and Catskill Aqueduct);

• Coastal zone management consistency;

• Route alternaties at the Hudson River; and

• Numerous specific route variations.

The purpose of the Millennium Pipeline Project would be to transport up to 700,000 decatherms per day and provide firm natural gas transportation service for nine shippers beginning on November 1, 2002.

The SDEIS will be used in the regulatory decision-making process at the FERC and may be presented as evidentiary material in formal hearings at the FERC. While the period for filing interventions in this case has expired, motions to intervene out-of-time can be filed with the FERC in accordance with the Commission's Rules of Practice and Procedures, 18 CFR 385.214(d). Further, anyone desiring to file a protest with the FERC should do so in accordance with 18 CFR 385.211.

Comment Procedures and Public Meeting

Any person wishing to comment on the SDEIS may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of Gas Group 2, PJ11.2;

• Reference Docket No. CP98-150 et al.; and

• Mail your comments so that they will be received in Washington, DC on or before April 30, 2001.

Comments, protests and interventions may also be filed electronically via the Internet in lieu of paper. See 18 CFR 385.2001(a)(iii) and the instructions on the Commission's web site at http://www.ferc.fed.us/efi/doorbell.htm under the link to the User's Guide. Before you can file comments you will need to create an account which can be created by clicking on “Login to File” and then “New User Account.”

In addition to written comments, we will hold a public meeting in the project area to receive comments on the SDEIS. Interested groups and individuals are encouraged to attend and present oral comments on the environmental impact described in the SDEIS. Transcripts of the meeting will be prepared.

The public meeting will begin at 7 p.m., and is scheduled as follows:

April 9, 2001; Ossining High School, 29 South Highland Ave., Ossining, New York 10562, 914-941-7700.

After these comments are reviewed, any significant new issues are investigated, and modifications are made to the SDEIS, a Final Environmental Impact Statement (FEIS) will be published and distributed by the staff. The FEIS will contain the staff's responses to timely comments filed on the SDEIS.

Comments will be considered by the Commission but will not serve to make the commentor a party to the proceeding. Any person seeking to become a party to the proceeding must file a motion to intervene pursuant to Rule 214 of the Commission's Rules of Practice and Procedures (18 CFR 385.214).

Anyone may intervene in this proceeding based on this SDEIS. You must file your request to intervene as specified above. You do not need intervenor status to have your comments considered.

The SDEIS has been placed in the public files of the FERC and is available for distribution and public inspection at: Federal Energy Regulatory Commission, Public Reference and Files Maintenance Branch, 888 First Street, NE., Room 2A, Washington, DC 20426, (202) 208-1371.

A limited number of copies are available from the Public Reference and Files Maintenance Branch identified above. In addition, copies of the SDEIS have been mailed to Federal, state and local agencies, public interest groups, individuals who have requested the SDEIS, newspapers, and parties to this proceeding.

In addition, this notice of availability of the SDEIS will also serve as a supplemental public Notice for the U.S. Army Corps of Engineers for its Application for Permit pursuant to Section 10 of the Rivers and Harbors Act of 1899 (33 U.S.C. 403) and Section 404 of the Clean Water Act (33 U.S.C. 1344). The original Public Notice which described the proposed pipeline from Canada to New York is available for review at both the New York (www.nan.army.mil) and Buffalo (www.lrb.army.mil) District's web sites.

If you wish to provide written comments to the Corps of Engineers on the subject activity, please provide them within 30 days of this NOA to: U.S. Army Corps of Engineers, New York District Regulatory Branch, Albany Field Office, 1 Bond Street, Troy, New York 12180, Attn: Heidi Firstencel, Permit Application No. 1999-00640.

Additional information about the proposed project is available from the Commission's Office of External Affairs, at (202) 208-1088 or on the FERC Intenet website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Intenet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-6522 Filed 3-15-01; 8:45 am]

BILLING CODE 6717-01-M